DEPARTMENT OF STATE

[Public Notice 3357]

Culturally Significant Objects Imported for Exhibition Determinations: “Drink and Be Merry: Wine and Beer in Ancient Times”

DEPARTMENT: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority of October 19, 1999, I hereby determine that the objects to be included in the exhibition “Drink and Be Merry: Wine and Beer in Ancient Times” imported from abroad for the temporary exhibition without profit within the United States, are of cultural significance. These objects are imported pursuant to loan agreements with foreign lenders. I also determine that the exhibition or display of the exhibit objects at The Jewish Museum, New York, NY from July 30, thru November 5, 2000 is in the national interest. The action of the United States in this matter and the immunity based on the application of the provisions of the law involved does not imply any view o f the United States concerning the ownership of these exhibition objects. Further, it is not based upon and does not represent any change in the position of the United States regarding the status of Jerusalem or the territories 1978, of President Jimmy Carter, attached to the Camp David Accords, reprinted in 78 Dept. of State Bulletin 11 (October 1978); Statement of September 1, 1982 of President Ronald Reagan, reprinted in 82 Dept. of State Bulletin 23 (September 1982). Public Notice of these Determinations is ordered to be published in the Federal Register.

FOR FURTHER INFORMATION CONTACT: For further information, including a list of exhibit objects, contact Carol Epstein, Attorney-Adviser, Office of the Legal Adviser, U.S. Department of State (telephone: 202/619-6981). The address is U.S. Department of State, SA-44; 301-4th Street, SW., Room 700, Washington, DC 20547-0001.

Dated: June 23, 2000.
William B. Bader,
Assistant Secretary for Educational and Cultural Affairs, U.S. Department of State.

[FR Doc. 00-16905 Filed 7-4-00; 8:45 am]

BILLING CODE 4710-08-P